DEPARTMENT OF JUSTICE

Notice of Lodging of Consent Decree Under Comprehensive Environmental Response, Compensation and Liability Act

In accordance with Departmental policy and 28 CFR 50.7, notice is hereby given that a proposed consent decree in United States v. Goodyear Tire & Rubber Co., Corning, Inc. and First Piedmont Corp., Civil Action No. 4:01CV00062, was lodged on October 30, 2001 with the United States District Court for the Western District of Virginia. The consent decree resolves the United States' claims against defendants with respect to past costs incurred in response to contamination at the First Piedmont Rock Quarry (Route 719) Site in Pittsylvania County, Virginia, pursuant to Section 107 of the Comprehensive Environmental Response, Compensation and Liability Act, 42 U.S.C. 9607.

Under the consent decree, defendants will pay the United States $973,095 in reimbursement of past response costs incurred in connection with the Site. Said amount will be paid within thirty (30) days after entry of the consent decree by the Court. As part of the proposed settlement, defendants will receive a covenant not to sue for and contribution protection for past response costs.

The Department of Justice will receive comments relating to the proposed Consent Decree for a period of thirty (30) days from the date of this publication, comments relating to the proposed consent decree that were previously submitted during the original comment period. Any persons who previously submitted comments should resubmit those comments. As a result of the discovery of anthrax contamination at the District of Columbia mail processing center in mid-October, 2001, the delivery of regular first-class mail sent through the U.S. Postal Service has been disrupted. Consequently, public comments which are addressed to the Department of Justice in Washington, DC and sent by regular, first-class mail through the U.S. Postal Service are not expected to be received in a timely manner. Therefore, comments should be addressed to the Assistant Attorney General, Environment and Natural Resources Division, Department of Justice, and sent: (1) c/o Natalie Katz, USEPA Region III (3RC42), 1650 Arch Street, Philadelphia, PA 19103 and/or (2) by facsimile to (202) 353-0296; and/or (3) by overnight delivery, other than through the U.S. Postal Service, to Chief, Environmental Enforcement Section, 1425 New York Avenue, NW., 13th Floor, Washington, DC 20005. Each communication should refer on its face to United States v. Goodyear Tire & Rubber Co., Corning, Inc. and First Piedmont Corp., DOJ # 90-11-3-07144.

The proposed Consent Decree may be examined at the office of the United States Attorney for the Western District of Virginia, 105 Franklin Road, SW., Suite One, Roanoke, Virginia 24008 and at the Region 3 office of the Environmental Protection Agency, 1650 Arch Street, Philadelphia, PA 19103. A copy of the proposed Consent Decree may also be obtained by faxing a request to Tonia Fleetwood, Department of Justice Consent Decree Library, fax no. (202) 616-6584; phone confirmation no. (202) 514-1547. There is a charge for the copy (25 cent per page reproduction cost). Upon requesting a copy, please mail a check payable to the “U.S. Treasury”, in the amount of $4.75, to: Consent Decree Library, U.S. Department of Justice, P.O. Box 7611, Washington, DC 20044-7611. The check should refer to United States v. Goodyear Tire & Rubber Co., Corning, Inc. and First Piedmont Corp., DOJ # 90-11-3-07144.

Robert D. Brook,
Assistant Chief, Environmental Enforcement Section, Environment and Natural Resources Division.

[FR Doc. 02-1296 Filed 1-17-02; 8:45 am]

BILLING CODE 4410-15-M